DEPARTMENT OF TRANSPORTATION

Federal Aviation Administration

14 CFR Part 95

[Docket No. 31291; Amdt. No. 550]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum enroute authorized IFR altitude is prescribed. This regulatory action is needed because of changes occurring in the National Airspace System. These changes are designed to provide for the safe and efficient use of the navigable airspace under instrument conditions in the affected areas.

DATES: Effective 0901 UTC, January 30, 2020.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on December 27, 2019.
Rick Domingo,
Executive Director, Flight Standards Service.

Adoption of the Amendment

Accordingly, pursuant to the authority delegated to me by the Administrator, part 95 of the Federal Aviation Regulations (14 CFR part 95) is amended as follows effective at 0901 UTC, January 30, 2020.

1. The authority citation for part 95 continues to read as follows:

Authority: 49 U.S.C. 106(g), 40103, 40106, 40113, 40114, 40120, 44502, 44514, 44719, 44721.

2. Part 95 is amended to read as follows:

Revisions to IFR Altitudes and Changeover Point
[Amendment 550 effective date January 30, 2020]
FROM | TO | MEA | MAA
§ 95.3000 LOW ALTITUDE RNAV ROUTES
§ 95.3239 RNAV Route T239 is Added to Read
PECAN, GA VOR/DME | SHANY, GA FIX | 2000 | 17500
SHANY, GA FIX | EUFAULA, AL VORTAC | 2300 | 17500
EUFAULA, AL VORTAC | MILER, AL FIX | 2000 | 17500
MILER, AL FIX | TUSKEGEE, AL VOR/DME | 2300 | 17500
TUSKEGEE, AL VOR/DME | KENTT, AL FIX | 2600 | 17500
*2100—MOCA
KENTT, AL FIX | VLKNN, AL WP | 3200 | 17500
VLKNN, AL WP | FOGUM, AL FIX | 2600 | 17500
FOGUM, AL FIX | SWIKI, AL WP | 2600 | 17500
*2100—MOCA
SWIKI, AL WP | GANTT, MS WP | 2500 | 17500
GANTT, MS WP | ICAVY, MS FIX | 2300 | 17500
ICAVY, MS FIX | GOINS, MS WP | 2400 | 17500
§ 95.3258 RNAV Route T258 is Added to Read
MINIM, AL FIX | CRMSN, AL WP | 2300 | 17500
CRMSN, AL WP | BROOKWOOD, AL VORTAC | 2500 | 17500
BROOKWOOD, AL VORTAC | HEENA, AL FIX | 2600 | 17500
HEENA, AL FIX | KYLEE, AL FIX | 2900 | 17500
KYLEE, AL FIX | CAMPP, AL FIX | 3200 | 17500
CAMPP, AL FIX | LAGRANGE, GA VORTAC | 2900 | 17500
LAGRANGE, GA VORTAC | LANGA, GA FIX | 2600 | 17500
LANGA, GA FIX | CANER, GA FIX | 3500 | 17500
§ 95.3268 RNAV Route T268 is Added to Read
TATOOSH, WA VORTAC | HEMER, WA WP | 3800 | 17500
HEMER, WA WP | YUCSU, WA FIX | 4500 | 17500
YUCSU, WA FIX | NOOEL, WA WP | 4500 | 17500
NOOEL, WA WP | STVOH, WA WP | 4400 | 17500
STVOH, WA WP | WATTR, WA FIX | 2600 | 17500
WATTR, WA FIX | LEION, WA WP | 3000 | 17500
*2400—MOCA
LEION, WA WP | AYURU, WA WP | 2000 | 17500
*3500—MCA AYURU, WA WP, E BND
AYURU, WA WP | WOODI, WA FIX | 5600 | 17500
WOODI, WA FIX | BANDR, WA FIX | 7600 | 17500
BANDR, WA FIX | TMBOB, WA WP | 7800 | 17500
*7200—MCA TMBOB, WA WP, W BND
TMBOB, WA WP | MERFF, WA WP | 6600 | 17500
*6600—MOCA
MERFF, WA WP | DOFDO, WA FIX | 6800 | 17500
*5400—MCA DOFDO, WA FIX, SW BND
DOFDO, WA FIX | MOSES LAKE, WA VOR/DME | 3400 | 17500
MOSES LAKE, WA VOR/DME | SUBDY, WA FIX | 3700 | 17500
SUBDY, WA FIX | YICUB, WA FIX | 4400 | 17500
YICUB, WA FIX | SPOKANE, WA VORTAC | 4800 | 17500
*5300—MCA SPOKANE, WA VORTAC, E BND
SPOKANE, WA VORTAC | HILIE, ID FIX | 7400 | 17500
HILIE, ID FIX | MULLAN PASS, ID VOR/DME | 9000 | 17500
MULLAN PASS, ID VOR/DME | ALTON, MT FIX | 9400 | 17500
ALTON, MT FIX | MISSOULA, MT VOR/DME | 8800 | 17500
MISSOULA, MT VOR/DME | BAMBE, MT FIX | 9500 | 17500
BAMBE, MT FIX | PIXXI, MT FIX | 10000 | 17500
PIXXI, MT FIX | RICHD, MT FIX | 10600 | 17500
*10300—MCA RICHD, MT FIX, W BND
RICHD, MT FIX | HELENA, MT VORTAC | 9700 | 17500
HELENA, MT VORTAC | SWEDD, MT FIX | 10000 | 17500
SWEDD, MT FIX | CONNS, MT FIX | 10800 | 17500
CONNS, MT FIX | NUKUW, MT FIX | 10000 | 17500
NUKUW, MT FIX | SUBKY, MT FIX | 11700 | 17500
*10000—MCA SUBKY, MT FIX, W BND
SUBKY, MT FIX | REEPO, MT FIX | 8300 | 17500
*7200—MCA REEPO, MT FIX, W BND
REEPO, MT FIX | COLUS, MT FIX | 6900 | 17500
COLUS, MT FIX | BILLINGS, MT VORTAC | 6500 | 17500
BILLINGS, MT VORTAC | MILES CITY, MT VOR/DME | 5800 | 17500
MILES CITY, MT VOR/DME | QATSA, ND FIX | 5200 | 17500
QATSA, ND FIX | DICKINSON, ND VORTAC | 4700 | 17500
*4200—MOCA
DICKINSON, ND VORTAC | BISMARCK, ND VOR/DME | 4500 | 17500
§ 95.3274 RNAV Route T274 is Amended by Adding
CRAAF, OR FIX | JAIME, OR FIX | 6100 | 17500
JAIME, OR FIX | DBLEY, OR WP | 8000 | 17500
*8200—MCA DBLEY, OR WP, E BND
DBLEY, OR WP | MMDSN, OR WP | 10000 | 17500
MMDSN, OR WP | MMASN, OR WP | 9000 | 17500
MMASN, OR WP | POCIT, OR FIX | 9000 | 17500
POCIT, OR FIX | GIFRD, OR WP | 9000 | 17500
GIFRD, OR WP | FASAB, OR WP | 10000 | 17500
FASAB, OR WP | NUSME, CA WP | 10000 | 17500
NUSME, CA WP | RUFUS, CA WP | 10100 | 17500
RUFUS, CA WP | DUCCS, NV WP | 10100 | 17500
DUCCS, NV WP | SEDTO, NV FIX | 10200 | 17500
*9200—MOCA
SEDTO, NV FIX | MUSTANG, NV VORTAC | 11000 | 17500
MUSTANG, NV VORTAC | YERIN, NV FIX | 10000 | 17500
*10400—MCA YERIN, NV FIX, SE BND
YERIN, NV FIX | SCOLA, NV WP | 11400 | 17500
SCOLA, NV WP | BABIT, NV FIX | 10800 | 17500
*10100—MOCA
BABIT, NV FIX | COALDALE, NV VORTAC | 10500 | 17500
COALDALE, NV VORTAC | LIDAT, NV FIX | 10000 | 17500
Is Amended to Read in Part
NEWPORT, OR VORTAC | WESHH, OR WP | 4200 | 17500
WESHH, OR WP | CRAAF, OR FIX | 4500 | 17500
§ 95.3276 RNAV Route T276 is Amended by Adding
WAVLU, WA FIX | WINLO, WA FIX | 5400 | 17500
WINLO, WA FIX | COUGA, WA FIX | 5100 | 17500
CARBY, WA FIX | VECCU, WA FIX | 7000 | 17500
VECCU, WA FIX | HUNGR, WA WP | 5600 | 17500
HUNGR, WA WP | LAYTN, WA WP | 5000 | 17500
LAYTN, WA WP | WALLA WALLA, WA VOR/DME | 4500 | 17500
WALLA WALLA, WA VOR/DME | RENGO, WA FIX | 6400 | 17500
RENGO, WA FIX | POTOR, WA FIX | 7200 | 17500
POTOR, WA FIX | CUPEV, ID FIX | 6100 | 17500
*5600—MOCA
CUPEV, ID FIX | HENVO, ID WP | 6300 | 17500
HENVO, ID WP | OFINO, ID FIX | 6300 | 17500
OFINO, ID FIX | JIROS, MT FIX | 9800 | 17500
JIROS, MT FIX | MISSOULA, MT VOR/DME | 9500 | 17500
MISSOULA, MT VOR/DME | ARSHO, MT WP | 10700 | 17500
*10200—MOCA
ARSHO, MT WP | BRCKN, MT WP | 11600 | 17500
*10000—MCA BRCKN, MT WP, SW BND
BRCKN, MT WP | FRYMN, MT FIX | 8300 | 17500
FRYMN, MT FIX | YOGOS, MT FIX | 8000 | 17500
*6600—MOCA
YOGOS, MT FIX | EVBUJ, MT WP | 8500 | 17500
EVBUJ, MT WP | ITEVE, MT WP | 8000 | 17500
ITEVE, MT WP | WUDEY, MT WP | 8000 | 17500
*5200—MCA WUDEY, MT WP, W BND
WUDEY, MT WP | GLASGOW, MT VOR/DME | 5000 | 17500
Is Amended to Read in Part
COUGA, WA FIX | CARBY, WA FIX | 7000 | 17500
*6500—MOCA
§ 95.3290 RNAV Route T290 is Amended by Adding
HABJE, MS FIX | MERIDIAN, MS VORTAC | 2300 | 17500
MERIDIAN, MS VORTAC | KWANE, MS WP | 2400 | 17500
KWANE, MS WP | RABEC, AL WP | 2300 | 17500
RABEC, AL WP | MONTGOMERY, AL VORTAC | 2000 | 17500
MONTGOMERY, AL VORTAC | SCAIL, AL WP | 2600 | 17500
*3400—MCA SCAIL, AL WP, E BND
§ 95.3292 RNAV Route T292 is Amended to Read in Part
SEMMES, AL VORTAC | ANTUH, AL WP | 2000 | 17500
ANTUH, AL WP | JANES, AL FIX | 2000 | 17500
JANES, AL FIX | KWANE, MS WP | 2300 | 17500
KWANE, MS WP | EUTAW, AL FIX | 2000 | 17500
EUTAW, AL FIX | MOVIL, AL FIX | 2300 | 17500
MOVIL, AL FIX | BROOKWOOD, AL VORTAC | 2500 | 17500
BROOKWOOD, AL VORTAC | VLKNN, AL WP | 2500 | 17500
VLKNN, AL WP | HOKES, AL FIX | 3200 | 17500
HOKES, AL FIX | MAYES, AL FIX | 2900 | 17500
MAYES, AL FIX | RKMRT, GA WP | 3600 | 17500
§ 95.3294 RNAV Route T294 is Amended by Adding
HABJE, MS FIX | MERIDIAN, MS VORTAC | 2300 | 17500
MERIDIAN, MS VORTAC | BOYDD, AL FIX | 2300 | 17500
BOYDD, AL FIX | CRMSN, AL WP | 2000 | 17500
CRMSN, AL WP | VLKNN, AL WP | 2500 | 17500
VLKNN, AL WP | JOTAV, AL FIX | 3300 | 17500
JOTAV, AL FIX | DEGAA, AL WP | 2700 | 17500
DEGAA, AL WP | HEFIN, AL FIX | 3400 | 17500
§ 95.3302 RNAV Route T302 is Amended by Adding
CUPRI, OR FIX | ZUDMI, OR WP | 9000 | 17500
*8200—MOCA
ZUDMI, OR WP | DRYLD, OR WP | 9100 | 17500
DRYLD, OR WP | WILDHORSE, OR VOR/DME | 9000 | 17500
WILDHORSE, OR VOR/DME | JOSTN, OR WP | 8100 | 17500
JOSTN, OR WP | UKAYI, OR WP | 8000 | 17500
*5500—MCA UKAYI, OR WP, SW BND
UKAYI, OR WP | PARMO, ID FIX | 5000 | 17500
PARMO, ID FIX | ADEXE, ID WP | 5000 | 17500
*5400—MCA ADEXE, ID WP, E BND
ADEXE, ID WP | ALKAL, ID FIX | 7000 | 17500
*6200—MCA ALKAL, ID FIX, W BND
ALKAL, ID FIX | FEVDO, ID WP | 6000 | 17500
FEVDO, ID WP | TOXEE, ID FIX | 6100 | 17500
TOXEE, ID FIX | JADUP, ID WP | 7000 | 17500
JADUP, ID WP | MRILE, ID WP | 9100 | 17500
*10200—MCA MRILE, ID WP, E BND
MRILE, ID WP | RAMMM, ID WP | 11000 | 17500
RAMMM, ID WP | MIKAE, WY WP | 11700 | 17500
MIKAE, WY WP | BXTER, WY WP | 11700 | 17500
BXTER, WY WP | EEBEE, WY WP | 10000 | 17500
*8700—MOCA
EEBEE, WY WP | REGVE, WY WP | 10200 | 17500
REGVE, WY WP | ROCK SPRINGS, WY VOR/DME | 10200 | 17500
ROCK SPRINGS, WY VOR/DME | FIKLA, WY WP | 10000 | 17500
FIKLA, WY WP | MEDICINE BOW, WY VOR/DME | 10000 | 17500
MEDICINE BOW, WY VOR/DME | ZIKRU, NE FIX | 10000 | 17500
*7400—MCA ZIKRU, NE FIX, W BND
ZIKRU, NE FIX | SCOTTSBLUFF, NE VORTAC | 6700 | 17500
SCOTTSBLUFF, NE VORTAC | WAKPA, NE WP | 6000 | 17500
WAKPA, NE WP | ALLIANCE, NE VOR/DME | 6000 | 17500
ALLIANCE, NE VOR/DME | EFFEX, NE FIX | 6000 | 17500
EFFEX, NE FIX | MARSS, NE FIX | 5400 | 17500
MARSS, NE FIX | PUKFA, NE WP | 4800 | 17500
PUKFA, NE WP | GIYED, NE FIX | 4600 | 17500
GIYED, NE FIX | LLUKY, NE WP | 3900 | 17500
Is Amended to Read in Part
CUKIS, OR WP | JJACE, OR WP | 7300 | 17500
JERMM, OR WP | CUPRI, OR FIX | 6600 | 17500
*5900—MOCA
§ 95.3304 RNAV Route T304 is Amended to Delete
GLARA, OR FIX | PUTZZ, OR WP | 7500 | 17500
PUTZZ, OR WP | JJETT, OR WP | 8000 | 17500
JJETT, OR WP | WISSL, OR WP | 8000 | 17500
WISSL, OR WP | HERBS, OR FIX | 7000 | 17500
*6000—MOCA
§ 95.3317 RNAV Route T317 is Added to Read
NEWMAN, TX VORTAC | MOLLY, NM FIX | 8900 | 17500
*7700—MCA MOLLY, NM FIX, E BND
MOLLY, NM FIX | FRIAN, NM FIX | 6800 | 17500
*6300—MOCA
FRIAN, NM FIX | DUCAS, NM FIX | 7900 | 17500
*9200—MCA DUCAS, NM FIX, NW BND
DUCAS, NM FIX | TRUTH OR CONSEQUENCES, NM VORTAC | 9700 | 17500
TRUTH OR CONSEQUENCES, NM VORTAC | SOCORRO, NM VORTAC | 10100 | 17500
SOCORRO, NM VORTAC | YECUG, NM WP | 7900 | 17500
YECUG, NM WP | AWASH, NM FIX | 8600 | 17500
*8100—MOCA
AWASH, NM FIX | CABZO, NM FIX | 10000 | 17500
CABZO, NM FIX | TANER, NM FIX | 10300 | 17500
TANER, NM FIX | MISSY, NM FIX | 9600 | 17500
MISSY, NM FIX | RATTLESNAKE, NM VORTAC | 8900 | 17500
RATTLESNAKE, NM VORTAC | RIZAL, CO FIX | 8900 | 17500
*10000—MCA RIZAL, CO FIX, N BND
RIZAL, CO FIX | MANCA, CO FIX | 11200 | 17500
MANCA, CO FIX | GRAND JUNCTION, CO VOR/DME | 12200 | 17500
*10800—MCA GRAND JUNCTION, CO VOR/DME, SE BND
GRAND JUNCTION, CO VOR/DME | TESSY, CO FIX | 10100 | 17500
*10700—MCA TESSY, CO FIX, N BND
TESSY, CO FIX | RACER, CO FIX | 11300 | 17500
RACER, CO FIX | RENAE, CO FIX | 10800 | 17500
RENAE, CO FIX | ROCK SPRINGS, WY VOR/DME | 11900 | 17500
*10200—MCA ROCK SPRINGS, WY VOR/DME, S BND
ROCK SPRINGS, WY VOR/DME | SWEAT, WY FIX | 10000 | 17500
SWEAT, WY FIX | HONOX, WY FIX | 10000 | 17500
HONOX, WY FIX | RIVERTON, WY VOR/DME | 8300 | 17500
*7800—MOCA
RIVERTON, WY VOR/DME | FETIK, WY FIX | 7500 | 17500
*8800—MCA FETIK, WY FIX, N BND
*7500—MOCA
FETIK, WY FIX | CRANY, WY FIX | 9800 | 17500
CRANY, WY FIX | PECKK, WY FIX | 7900 | 17500
PECKK, WY FIX | PRYER, MT FIX | 11100 | 17500
*9900—MCA PRYER, MT FIX, S BND
PRYER, MT FIX | BILLINGS, MT VORTAC | 7500 | 17500
BILLINGS, MT VORTAC | TASSE, MT FIX | 6200 | 17500
TASSE, MT FIX | JUGAP, MT FIX | 6800 | 17500
*8400—MCA JUGAP, MT FIX, NW BND
JUGAP, MT FIX | ZERZO, MT FIX | 9700 | 17500
ZERZO, MT FIX | AUBBY, MT WP | 10500 | 17500
*8300—MCA AUBBY, MT WP, E BND
AUBBY, MT WP | GREAT FALLS, MT VORTAC | 6500 | 17500
GREAT FALLS, MT VORTAC | TUCKB, MT FIX | 7000 | 17500
TUCKB, MT FIX | ROSOE, MT FIX | 7600 | 17500
*7600—MOCA
ROSOE, MT FIX | PREEL, MT WP | 8600 | 17500
*10200—MCA PREEL, MT WP, SW BND
PREEL, MT WP | KUNZY, MT WP | 11200 | 17500
KUNZY, MT WP | OCEDA, MT FIX | 9600 | 17500
*9100—MOCA
OCEDA, MT FIX | MISSOULA, MT VOR/DME | 10100 | 17500
MISSOULA, MT VOR/DME | JIROS, MT FIX | 9500 | 17500
JIROS, MT FIX | OFINO, ID FIX | 9800 | 17500
OFINO, ID FIX | NEZ PERCE, ID VOR/DME | 6100 | 17500
NEZ PERCE, ID VOR/DME | POTOR, WA FIX | 6100 | 17500
*5600—MOCA
POTOR, WA FIX | RENGO, WA FIX | 7200 | 17500
RENGO, WA FIX | BUTOC, WA FIX | 6400 | 17500
BUTOC, WA FIX | BACUN, WA FIX | 4500 | 17500
BACUN, WA FIX | PASCO, WA VOR/DME | 3300 | 17500
PASCO, WA VOR/DME | NIALS, WA FIX | 2900 | 17500
*3300—MCA NIALS, WA FIX, NW BND
NIALS, WA FIX | FEBUS, WA FIX | 4900 | 17500
FEBUS, WA FIX | MERFF, WA WP | 6200 | 17500
MERFF, WA WP | THICK, WA FIX | 7900 | 17500
*7200—MOCA
THICK, WA FIX | RADDY, WA FIX | 8700 | 17500
RADDY, WA FIX | MOUNT, WA FIX | 8400 | 17500
MOUNT, WA FIX | COFAY, WA WP | 7700 | 17500
*4600—MCA COFAY, WA WP, E BND
COFAY, WA WP | FESAS, WA WP | 2000 | 17500
FESAS, WA WP | OZEYO, WA FIX | 3000 | 17500
*3800—MCA OZEYO, WA FIX, SW BND
*2500—MOCA
OZEYO, WA FIX | CETUV, WA FIX | 4700 | 17500
CETUV, WA FIX | HEVOL, WA FIX | 5200 | 17500
HEVOL, WA FIX | ASTORIA, OR VOR/DME | 4800 | 17500
*4300—MOCA
§ 95.3328 RNAV Route T328 is Added to Read
ORCUS, WA FIX | MADEE, WA WP | 2000 | 17500
*4800—MCA MADEE, WA WP, E BND
MADEE, WA WP | BOCAT, WA FIX | 6000 | 17500
BOCAT, WA FIX | BJAAY, WA WP | 6300 | 17500
*8100—MCA BJAAY, WA WP, E BND
BJAAY, WA WP | CREEB, WA FIX | 9000 | 17500
*10200—MCA CREEB, WA FIX, E BND
CREEB, WA FIX | ROZSE, WA WP | 11000 | 17500
*11300—MCA ROZSE, WA WP, E BND
ROZSE, WA WP | KRUZR, WA FIX | 11700 | 17500
KRUZR, WA FIX | STRDP, WA WP | 10800 | 17500
*8800—MCA STRDP, WA WP, W BND
STRDP, WA WP | KLSEY, WA WP | 7600 | 17500
*6700—MCA KLSEY, WA WP, W BND
KLSEY, WA WP | SINGG, WA WP | 5000 | 17500
*6200—MCA SINGG, WA WP, E BND
SINGG, WA WP | ROZTY, WA WP | 7000 | 17500
ROZTY, WA WP | PRRKS, WA WP | 7400 | 17500
PRRKS, WA WP | DAINA, WA WP | 7500 | 17500
DAINA, WA WP | INOBE, ID FIX | 7300 | 17500
INOBE, ID FIX | RNDDY, ID WP | 7700 | 17500
*8600—MCA RNDDY, ID WP, E BND
RNDDY, ID WP | KAPPN, MT WP | 11000 | 17500
*10200—MCA KAPPN, MT WP, W BND
KAPPN, MT WP | KARSH, MT WP | 8800 | 17500
§ 95.3332 RNAV Route T332 is Added to Read
ZONUV, WA WP | CRNEL, WA WP | 6100 | 17500
*4600—MOCA
CRNEL, WA WP | AALIX, WA WP | 7200 | 17500
AALIX, WA WP | BAALE, WA WP | 8500 | 17500
*9400—MCA BAALE, WA WP, E BND
BAALE, WA WP | SNNDY, WA WP | 10000 | 17500
*9500—MOCA
SNNDY, WA WP | COADY, WA WP | 10400 | 17500
COADY, WA WP | DYNGO, WA WP | 10600 | 17500
DYNGO, WA WP | METOO, WA WP | 10400 | 17500
*9500—MCA METOO, WA WP, W BND
METOO, WA WP | HVARD, WA WP | 7900 | 17500
HVARD, WA WP | REPII, WA WP | 7000 | 17500
REPII, WA WP | ROZTY, WA WP | 7000 | 17500
§ 95.3355 RNAV Route T355 is Added to Read
FOLDS, CA FIX | DIMGE, CA WP | 11200 | 17500
*9600—MCA DIMGE, CA WP, S BND
DIMGE, CA WP | GRENA, CA FIX | 7600 | 17500
*6300—MOCA
GRENA, CA FIX | ROMAE, CA FIX | 9000 | 17500
ROMAE, CA FIX | TALEM, OR FIX | 9700 | 17500
*9200—MCA TALEM, OR FIX, SE BND
TALEM, OR FIX | SAMIE, OR FIX | 7800 | 17500
SAMIE, OR FIX | BROKN, OR FIX | 6900 | 17500
BROKN, OR FIX | KINZY, OR WP | 8900 | 17500
KINZY, OR WP | SSTRS, OR WP | 9800 | 17500
SSTRS, OR WP | OCTAD, OR FIX | 8300 | 17500
*7100—MCA OCTAD, OR FIX, S BND
*7700—MOCA
OCTAD, OR FIX | HERBS, OR FIX | 6900 | 17500
HERBS, OR FIX | WISSL, OR WP | 6400 | 17500
WISSL, OR WP | JJETT, OR WP | 7700 | 17500
JJETT, OR WP | PUTZZ, OR WP | 7700 | 17500
PUTZZ, OR WP | GLARA, OR FIX | 7300 | 17500
*5100—MCA GLARA, OR FIX, E BND
GLARA, OR FIX | CANBY, OR FIX | 3500 | 17500
*2800—MOCA
CANBY, OR FIX | KKARP, OR WP | 5300 | 17500
KKARP, OR WP | CETUV, WA FIX | 5300 | 17500
CETUV, WA FIX | ZOLGI, WA FIX | 4900 | 17500
ZOLGI, WA FIX | WUMOX, WA FIX | 3400 | 17500
*3100—MCA WUMOX, WA FIX, S BND
WUMOX, WA FIX | PENN COVE, WA VOR/DME | 3000 | 17500
PENN COVE, WA VOR/DME | ZONUV, WA WP | 3000 | 17500
ZONUV, WA WP | UCAKI, WA WP | 3000 | 17500
UCAKI, WA WP | SECOG, WA FIX | 2300 | 17500
§ 95.4000 High Altitude RNAV Routes § 95.4083
RNAV Route Q83 is Amended to Read in Part
WURFL, SC WP | JUSEE, SC WP | #*18000 | 45000
*18000—GNSS MEA
*DME/DME/IRU MEA
JUSEE, SC WP | EFFAY, SC WP | #*18000 | 45000
*18000—GNSS MEA
*DME/DME/IRU MEA
§ 95.4087 RNAV Route Q87 is Amended to Read in Part
DUCEN, FL WP | OVENP, FL WP | #*18000 | 45000
*18000—GNSS MEA
*DME/DME/IRU MEA
OVENP, FL WP | FEMON, FL WP | #*18000 | 45000
*18000—GNSS MEA
*DME/DME/IRU MEA
FEMON, FL WP | VIYAP, GA WP | #*18000 | 45000
*18000—GNSS MEA
*DME/DME/IRU MEA
VIYAP, GA WP | SUSYQ, GA WP | #*18000 | 45000
*18000—GNSS MEA
*DME/DME/IRU MEA
SUSYQ, GA WP | TAALN, GA WP | #*18000 | 45000
*18000—GNSS MEA
*DME/DME/IRU MEA
§ 95.4089 RNAV Route Q89 is Amended to Read in Part
PRMUS, FL WP | OVENP, FL WP | #*18000 | 45000
*18000—GNSS MEA
*DME/DME/IRU MEA
OVENP, FL WP | SHRKS, FL WP | #*18000 | 45000
*18000—GNSS MEA
*DME/DME/IRU MEA
§ 95.4103 RNAV Route Q103 is Amended to Read in Part
RIELE, SC WP | GRONK, SC WP | #*30000 | 45000
*30000—GNSS MEA
*DME/DME/IRU MEA
GRONK, SC WP | EMCET, SC WP | #*18000 | 45000
*18000—GNSS MEA
*DME/DME/IRU MEA
§ 95.4112 RNAV Route Q112 is Amended to Delete
INPIN FL FIX | DEFUN, FL FIX | *18000 | 45000
*18000—GNSS MEA
*DME/DME/IRU MEA

FROM | TO | MEA
§ 95.6001 Victor Routes-U.S.
§ 95.6159 VOR Federal Airway V159 is Amended to Read in Part
PECAN, GA VOR/DME | *SHANY, GA FIX | **2000
*4000—MRA
**1800—MOCA
SHANY, GA FIX | *SAWES, GA FIX | 2100
*2200—MRA
SAWES, GA FIX | EUFAULA, AL VORTAC | 2100
§ 95.6195 VOR Federal Airway V195 is Amended to Read in Part
BURRS, CA FIX | *TOMAD, CA FIX | **6000
*7300—MCA TOMAD, CA FIX, W BND
**4600—MOCA
§ 95.6451 VOR Federal Airway V451 is Amended to Read in Part
LA GUARDIA, NY VOR/DME | *NESSI, CT FIX | **4000
*4000—MCA NESSI, CT FIX, W BND
**1900—MOCA
**2000—GNSS MEA
NESSI, CT FIX | KEYED, NY FIX | #2500
#Segment Unusable Except for Aircraft Equipped With Suitable RNAV System With GPS.

FROM | TO | MEA | MAA
§ 95.7001 Jet Routes
§ 95.7004 Jet Route J4 is Amended to Delete
COLLIERS, SC VORTAC | COLUMBIA, SC VORTAC | 18000 | 45000
COLUMBIA, SC VORTAC | FLORENCE, SC VORTAC | 18000 | 45000
FLORENCE, SC VORTAC | WILMINGTON, NC VORTAC | 18000 | 45000
§ 95.7020 Jet Route J20 is Amended to Delete
SEMINOLE, FL VORTAC | ORLANDO, FL VORTAC | 18000 | 45000
§ 95.7037 Jet Route J37 is Amended to Delete
MONTGOMERY, AL VORTAC | SPARTANBURG, SC VORTAC | 18000 | 45000
SPARTANBURG, SC VORTAC | LYNCHBURG, VA VOR/DME | # | 45000
#UNUSABLE.
§ 95.7041 Jet Route J41 is Amended to Delete
KEY WEST, FL VORTAC | LEE COUNTY, FL VORTAC | 18000 | 45000
LEE COUNTY, FL VORTAC | ST PETERSBURG, FL VORTAC | 18000 | 45000
ST PETERSBURG, FL VORTAC | SEMINOLE, FL VORTAC | #*25000 | 45000
*18000—GNSS MEA
#MEA IS ESTABLISHED WITH A GAP IN NAVIGATION SIGNAL COVERAGE.
§ 95.7043 Jet Route J43 is Amended to Delete
DOLPHIN, FL VORTAC | LA BELLE, FL VORTAC | 18000 | 45000
LA BELLE, FL VORTAC | ST PETERSBURG, FL VORTAC | 18000 | 45000
ST PETERSBURG, FL VORTAC | SEMINOLE, FL VORTAC | #*25000 | 45000
*18000—GNSS MEA
#MEA IS ESTABLISHED WITH A GAP IN NAVIGATION SIGNAL COVERAGE.
SEMINOLE, FL VORTAC | ATLANTA, GA VORTAC | 18000 | 45000
Is Amended by Adding
NEDDY, GA FIX | ATLANTA, GA VORTAC | 18000 | 45000
§ 95.7045 Jet Route J45 is Amended to Delete
VIRGINIA KEY, FL VOR/DME | TREASURE, FL VORTAC | 18000 | 45000
TREASURE, FL VORTAC | ORMOND BEACH, FL VORTAC | 18000 | 45000
ORMOND BEACH, FL VORTAC | CRAIG, FL VORTAC | 18000 | 45000
CRAIG, FL VORTAC | ALMA, GA VORTAC | 18000 | 45000
§ 95.7046 Jet Route J46 is Amended to Delete
VOLUNTEER, TN VORTAC | ATHENS, GA VOR/DME | 18000 | 45000
ATHENS, GA VOR/DME | ALMA, GA VORTAC | 18000 | 45000
§ 95.7047 Jet Route J47 is Amended to Delete
CHARLESTON, SC VORTAC | COLUMBIA, SC VORTAC | 18000 | 45000
COLUMBIA, SC VORTAC | SPARTANBURG, SC VORTAC | 18000 | 45000
§ 95.7051 Jet Route J51 is Amended to Delete
CRAIG, FL VORTAC | SAVANNAH, GA VORTAC | 18000 | 45000
SAVANNAH, GA VORTAC | COLUMBIA, SC VORTAC | 18000 | 45000
COLUMBIA, SC VORTAC | TUBAS, NC FIX | 18000 | 45000
§ 95.7052 Jet Route J52 is Amended to Delete
COLUMBIA, SC VORTAC | TUBAS, NC FIX | 18000 | 45000
§ 95.7053 Jet Route J53 is Amended to Delete
DOLPHIN, FL VORTAC | PAHOKEE, FL VOR/DME | 18000 | 45000
PAHOKEE, FL VOR/DME | ORLANDO, FL VORTAC | 18000 | 45000
ORLANDO, FL VORTAC | CRAIG, FL VORTAC | 18000 | 45000
CRAIG, FL VORTAC | COLLIERS, SC VORTAC | 18000 | 45000
Is Amended to Read in Part
DUNKN, GA FIX | COLLIERS, SC VORTAC | 18000 | 45000
§ 95.7055 Jet Route J55 is Amended to Delete
DOLPHIN, FL VORTAC | LLAKE, FL FIX | 18000 | 45000
LLAKE, FL FIX | INPIN, FL WP | 23000 | 45000
INPIN, FL WP | LOULO, FL FIX | 18000 | 45000
LOULO, FL FIX | CRAIG, FL VORTAC | 18000 | 45000
CRAIG, FL VORTAC | SAVANNAH, GA VORTAC | 18000 | 45000
SAVANNAH, GA VORTAC | CHARLESTON, SC VORTAC | 18000 | 45000
§ 95.7073 Jet Route J73 is Amended to Delete
DOLPHIN, FL VORTAC | LA BELLE, FL VORTAC | 18000 | 45000
LA BELLE, FL VORTAC | LAKELAND, FL VORTAC | 18000 | 45000
LAKELAND, FL VORTAC | SEMINOLE, FL VORTAC | 18000 | 45000
SEMINOLE, FL VORTAC | LAGRANGE, GA VORTAC | 18000 | 45000
Is Amended by Adding
WYATT, GA FIX | LAGRANGE, GA VORTAC | 18000 | 45000
§ 95.7075 Jet Route J75 is Amended to Delete
DOLPHIN, FL VORTAC | LEE COUNTY, FL VORTAC | 18000 | 45000
LEE COUNTY, FL VORTAC | TAYLOR, FL VORTAC | 18000 | 45000
TAYLOR, FL VORTAC | COLUMBIA, SC VORTAC | 18000 | 45000
COLUMBIA, SC VORTAC | GREENSBORO, NC VORTAC | 18000 | 45000
§ 95.7079 Jet Route J79 is Amended to Delete
KEY WEST, FL VORTAC | DOLPHIN, FL VORTAC | 18000 | 45000
DOLPHIN, FL VORTAC | PALM BEACH, FL VORTA | 18000 | 45000
PALM BEACH, FL VORTAC | TREASURE, FL VORTAC | 18000 | 45000
TREASURE, FL VORTAC | ORMOND BEACH, FL VORTAC | 18000 | 45000
ORMOND BEACH, FL VORTAC | CHARLESTON, SC VORTAC | 18000 | 45000
§ 95.7081 Jet Route J81 is Amended to Delete
DOLPHIN, FL VORTAC | PAHOKEE, FL VOR/DME | 18000 | 45000
PAHOKEE, FL VOR/DME | ORLANDO, FL VORTAC | 18000 | 45000
ORLANDO, FL VORTAC | CECIL, FL VOR | 18000 | 45000
CECIL, FL VOR | COLLIERS, SC VORTAC | 18000 | 45000
Is Amended by Adding
DUNKN, GA FIX | COLLIERS, SC VORTAC | 18000 | 45000
§ 95.7085 Jet Route J85 is Amended to Delete
DOLPHIN, FL VORTAC | LLAKE, FL FIX | 18000 | 45000
LLAKE, FL FIX | INPIN, FL FIX | 18000 | 45000
INPIN, FL FIX | GATORS, FL VORTAC | 18000 | 45000
GATORS, FL VORTAC | TAYLOR, FL VORTAC | 18000 | 45000
TAYLOR, FL VORTAC | ALMA, GA VORTAC | 18000 | 45000
§ 95.7089 Jet Route J89 is Amended to Delete
HITTR, FL FIX | VALDOSTA, GA VOR/DME | 18000 | 45000
VALDOSTA, GA VOR/DME | ATLANTA, GA VORTAC | 18000 | 45000
Is Amended by Adding
ICBOD, GA FIX | ATLANTA, GA VORTAC | 18000 | 45000
§ 95.7091 Jet Route J91 is Amended to Delete
INPIN, FL WP | CROSS CITY, FL VORTAC | 18000 | 45000
CROSS CITY, FL VORTAC | ATLANTA, GA VORTAC | 24000 | 45000
Is Amended by Adding
JOHNN, GA FIX | ATLANTA, GA VORTAC | 24000 | 45000
§ 95.7103 Jet Route J103 is Amended to Delete
ORMOND BEACH, FL VORTAC | SAVANNAH, GA VORTAC | 18000 | 45000
§ 95.7113 Jet Route J113 is Amended to Delete
VIRGINIA KEY, FL VOR/DME | CRAIG, FL VORTAC | 18000 | 45000
§ 95.7119 Jet Route J119 is Amended to Delete
ST PETERSBURG, FL VORTAC | TAYLOR, FL VORTAC | 18000 | 45000
§ 95.7121 Jet Route J121 is Amended to Delete
CRAIG, FL VORTAC | CHARLESTON, SC VORTAC | 18000 | 45000
§ 95.7151 Jet Route J151 is Amended to Delete
CROSS CITY, FL VORTAC | VULCAN, AL VORTAC | 26000 | 45000
§ 95.7165 Jet Route J165 is Amended by Adding
DWYTE, SC FIX | RICHMOND, VA VORTAC | 18000 | 45000
Is Amended to Delete
CHARLESTON, SC VORTAC | RICHMOND, VA VORTAC | #18000 | 45000
#MEA IS ESTABLISHED WITH A GAP IN NAVIGATION SIGNAL COVERAGE.
§ 95.7174 Jet Route J174 is Amended to Delete
CRAIG, FL VORTAC | CHARLESTON, SC VORTAC | 18000 | 45000
§ 95.7207 Jet Route J207 is Amended to Delete
SAVANNAH, GA VORTAC | FLORENCE, SC VORTAC | 24000 | 45000
§ 95.7208 Jet Route J208 is Amended to Delete
ATHENS, GA VOR/DME | LIBERTY, NC VORTAC | # | 45000
#UNUSABLE
LIBERTY, NC VORTAC | HOPEWELL, VA VORTAC | 18000 | 45000
§ 95.7209 Jet Route J209 is Amended to Delete
GREENWOOD, SC VORTAC | RALEIGH/DURHAM, NC VORTAC | 18000 | 45000
§ 95.7210 Jet Route J210 is Amended to Delete
DUNKN, GA FIX | VANCE, SC VORTAC | 18000 | 45000
§ 95.7233 Jet Route J233 is Amended to Read in Part
KIRKSVILLE, MO VORTAC | WATERLOO, IA VOR/DME | 18000 | 27000
§ 95.7614 Jet Route J614 is Amended to Delete
SARASOTA, FL VOR/DME | LEE COUNTY, FL VORTAC | 18000 | 45000
LEE COUNTY, FL VORTAC | DOLPHIN, FL VORTAC | 18000 | 45000
§ 95.7616 Jet Route J616 is Amended to Delete
SARASOTA, FL VOR/DME | LA BELLE, FL VORTAC | 18000 | 45000
LA BELLE, FL VORTAC | DOLPHIN, FL VORTAC | 18000 | 45000

Airway Segment: From | Airway Segment: To | Changeover points: Distance | Changeover points: From
§ 95.8005 Jet Routes Changeover Points
J47 Is Amended to Delete Changeover Points
COLUMBIA, SC VORTAC | SPARTANBURG, SC VORTAC | 10 | COLUMBIA.
J89 is Amended to Add Changeover Point
ATLANTA, GA VORTAC | VALDOSTA, GA VOR/DME | 90 | ATLANTA.
Is Amended to Modify Changeover Point
LOUISVILLE, KY VORTAC | ATLANTA, GA VORTAC | 148 | LOUISVILLE.
J165 is Amended to Add Changeover Point
RICHMOND, VA VORTAC | CHARLESTON, SC VORTAC | 152 | RICHMOND.

[FR Doc. 2020-00322 Filed 1-15-20; 8:45 am]

BILLING CODE 4910-13-P